DEPARTMENT OF HOMELAND SECURITY

Coast Guard

[Docket No. USCG-2021-0830]

National Boating Safety Advisory Committee; Vacancies

AGENCY: United States Coast Guard, Department of Homeland Security.

ACTION: Request for applications.

SUMMARY: The U.S. Coast Guard is accepting applications to fill four vacancies on the National Boating Safety Advisory Committee (Committee). This Committee advises the Secretary of Homeland Security, via the Commandant of the U.S. Coast Guard, on matters relating to national recreational boating safety.

DATES: Completed applications must reach the U.S. Coast Guard on or before December 15, 2023.

ADDRESSES: Applications must include (a) a cover letter expressing interest in an appointment to the National Boating Safety Advisory Committee, (b) a resume detailing the applicant's relevant experience for the position applied for, and (c) a brief biography. Applications should be submitted via email with the subject line “Application for NBSAC” to Mr. Jeff Decker at NBSAC@uscg.mil.

FOR FURTHER INFORMATION CONTACT: Mr. Jeff Decker, Alternate Designated Federal Officer of the National Boating Safety Advisory Committee; telephone 574-607-8235 or email at NBSAC@uscg.mil.

SUPPLEMENTARY INFORMATION: The National Boating Safety Advisory Committee is a Federal advisory committee. The Committee was established on December 4, 2018, by section 601 of the Frank LoBiondo Coast Guard Authorization Act of 2018, Public Law 115-282, 132 Stat. 4192, and is codified in 46 U.S.C. 15105. The Committee must operate under the provisions of the Federal Advisory Committee Act, (Pub. L. 117-286, 5 U.S.C., ch. 10), and 46 U.S.C. 15109. The National Boating Safety Advisory Committee provides advice, consults with, and make recommendations to the Secretary of Homeland Security, via the Commandant of the U.S. Coast Guard, on matters relating to national recreational boating safety.

The Committee is required to meet at least once a year in accordance with 46 U.S.C. 15109(a). We expect the Committee will hold meetings at least twice a year, but it may meet more frequently. The meetings may be held virtually or held at the location across the country selected by the U.S. Coast Guard.

All members serve at their own expense and receive no salary or other compensation from the Federal Government. The only compensation the members may receive is for travel expenses, including per diem in lieu of subsistence, and or/actual reasonable expenses incurred in the performance of their direct duties for the Committee in accordance with Federal Travel Regulations. If you are appointed as a member of the Committee, you will be required to sign a Non-Disclosure Agreement and a Gratuitous Services Agreement.

Under provisions in 46 U.S.C. 15109(f)(6), if you are appointed as a member of the Committee, your membership term will expire on December 31st of the third full year after the effective date of your appointment. Members serve at the pleasure of the Secretary of Homeland Security and may be removed prior to the end of their term for just cause. The Secretary of Homeland Security may require an individual to have passed an appropriate security background examination before appointment to the Committee, 46 U.S.C. 15109(f)(4).

In this solicitation for Committee members, we will consider applications for four (4) positions:

State official responsible for State boating safety programs (4 positions).

Each member of the Committee serves as a representative and must have particular expertise, knowledge, and experience in matters relating to the function of the Committee, which is to advise the Secretary of Homeland Security on the matters described above.

The members who will fill the four positions will be appointed to represent the positions described above and are not Special Government Employees as defined in 18 U.S.C. 202(a).

In order for the Department, to fully leverage broad-ranging experience and education, the National Boating Safety Advisory Committee must be diverse with regard to professional and technical expertise. The Department is committed to pursuing opportunities, consistent with applicable law, to compose a committee that reflects the diversity of the Nation's people.

If you are interested in applying to become a member of the Committee, email your application to NBSAC@uscg.mil as provided in the ADDRESSES section of this notice. Applications must include: (1) a cover letter expressing interest in an appointment to the National Boating Safety Advisory Committee; (2) a resume detailing the applicant's relevant experience and (3) a brief biography of the applicant by the deadline in the DATES section of this notice.

The U.S. Coast Guard will not consider incomplete or late applications.

Dated: November 8, 2023.
Amy M. Beach,
Captain, U.S. Coast Guard, Director of Inspections and Compliance.

[FR Doc. 2023-25150 Filed 11-14-23; 8:45 am]

BILLING CODE 9110-04-P